DEPARTMENT OF TRANSPORTATION

Surface Transportation Board

[Docket No. FD 35607]

Manning Rail, Inc.—Acquisition and Operation Exemption—Manning Grain Company

Manning Rail, Inc. (MRI), a noncarrier, has filed a verified notice of exemption ¹ under 49 CFR 1150.31 to acquire from Manning Grain Company (MGC) and operate a 7.1-mile rail line between its point of connection with BNSF Railway Company at milepost 8.1 at or near Fairmont and terminus at milepost 15.2 at or near Burress, in Fillmore County, Neb. (the Line).²

¹ MRI initially filed its verified notice of exemption on March 8, 2012. By decision served on March 20, 2012, the notice was held in abeyance at MRI's request to enable MRI to investigate the history of the line. By letter filed on March 22, 2012, MRI requests that the proceeding be restored to active status.

² MGC obtained authority to acquire the Line in Manning Grain Company—Acquisition and Operation Exemption—Fillmore Western Railway Company, FD 35612 (STB served Apr. 6, 2012).

The earliest this transaction may be consummated is May 4, 2012, the effective date of the exemption.

MRI certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than April 27, 2012 (at least 7 days before the exemption becomes effective).

An original and 10 copies of all pleadings, referring to Docket No. FD 35607, must be filed with the Surface Transportation Board, 395 E Street SW., Washington, DC 20423-0001. In addition, a copy of each pleading must be served on Thomas F. McFarland, Thomas F. McFarland, P.C., 208 South LaSalle Street, Suite 1890, Chicago, IL 60604-1112.

Board decisions and notices are available on our Web site at “www.stb.dot.gov.”

Decided: April 17, 2012.
By the Board, Rachel D. Campbell, Director, Office of Proceedings.
Jeffrey Herzig,
Clearance Clerk.

[FR Doc. 2012-9594 Filed 4-19-12; 8:45 am]

BILLING CODE 4915-01-P